DEPARTMENT OF LABOR

Notice of Final Determination To Add Cambodia Bricks to the List of Products Requiring Federal Contractor Certification as to Forced or Indentured Child Labor Pursuant to Executive Order 13126

AGENCY: Bureau of International Labor Affairs, Department of Labor.

ACTION: Notice of final determination.

SUMMARY: This notice is a final determination to revise the list required by Executive Order No. 13126 (“Prohibition of Acquisition of Products Produced by Forced or Indentured Child Labor”, hereafter the E.O. List). The E.O. List identifies a list of products, by their country of origin, that the Department of Labor (DOL), in consultation and cooperation with the Department of State (DOS) and the Department of Homeland Security (DHS) (collectively, the Departments), has a reasonable basis to believe might have been mined, produced, or manufactured by forced or indentured child labor. The Departments proposed adding bricks from Cambodia to the E.O. List in a Notice of Initial Determination that was published in the Federal Register on October 2, 2020. After a thorough review of the comments received and information available, the Departments have determined that the use of forced child labor in brick kilns in Cambodia has been occurring in more than isolated incidents. As a result, this product meets the criteria for inclusion in the E.O. List.

SUPPLEMENTARY INFORMATION: This final determination is the sixth revision of the E.O. List required by E.O. 13126 in accordance with DOL's Procedural Guidelines for the Maintenance of the List of Products Requiring Federal Contractor Certification as to Forced or Indentured Child Labor (Procedural Guidelines).

I. Initial Determination

On October 2, 2020, DOL, in consultation and cooperation with DOS and DHS, published a Notice of Initial Determination in the Federal Register proposing to add bricks from Cambodia to the E.O. List.¹ The initial determination stated the Departments had preliminarily determined that there was a reasonable basis to believe that bricks from Cambodia might have been mined, produced, or manufactured by forced or indentured child labor. Public comments remained open until December 1, 2020 on whether bricks from Cambodia should be added to the E.O. List, as well as any other issues related to the fair and effective implementation of E.O. 13126. The initial determination, and the public comments submitted, can be viewed at Docket ID No. DOL-2020-0008 or requested from Nadia Al-Dayel at: Office of Child Labor, Forced Labor, and Human Trafficking (OCFT), Bureau of International Labor Affairs, Room S-5317, U.S. Department of Labor, 200 Constitution Avenue NW, Washington, DC 20210; telephone: (202) 693-4896, email: Al-Dayel.Nadia.A@dol.gov. Individuals with hearing or speech impairments may access the telephone number above via TTY by calling the Federal Information Relay Service at 1-877-889-5627.

¹ 85 FR 62325. (October 2, 2020). https://www.federalregister.gov/documents/2020/10/02/2020-21789/notice-of-initial-determination-revising-the-list-of-products-requiring-federal-contractor.

II. Public Comment Period

During the public comment period, two comments were submitted. One comment received was an electronic message; however, the Department of Labor determined that the content of the comment was not applicable to the Notice of Initial Determination. The other comment received was a letter from the Minister of Labour and Vocational Training, on behalf of the Government of Cambodia. This comment is available for public viewing at http://www.regulations.gov (reference Docket ID No. DOL-2020-0008).

In its letter, the Government of Cambodia discussed the efforts it has made in combating the worst forms of child labor by addressing some of the gaps that were identified in the Cambodia profile in the 2019 Findings on the Words Forms of Child Labor report.²

² Government of Cambodia. Minister of Labor and Vocational Training Letter. November 10, 2020. https://www.regulations.gov/docket/DOL-2020-0008.

III. Analysis of Comment Submitted

After the public comment period closed on December 1, 2020, the Departments carefully reviewed and considered the public comments received.³ In so doing, the Departments considered and weighed the factors identified in the Procedural Guidelines: The source of the information presented, the date of the information, the extent of corroboration of the information, whether the information involved more than an isolated incident, and whether recent and credible efforts are being made to address forced or indentured child labor in the country and industry.⁴

³ Ibid.

⁴ 66 FR 5351, at 5352. (January 18, 2001). https://www.federalregister.gov/documents/2001/01/18/01-952/bureau-of-international-labor-affairs-procedural-guidelines-for-the-maintenance-of-the-list-of.

The Government of Cambodia cited its efforts to address child labor, forced labor, and debt bondage at brick kilns by conducting a census of all 486 operational brick kilns in the country in 2019. The government stated that no child labor, forced labor, or debt bondage were found at any of these brick kilns, and they were working with local authorities to create accessible education for marginalized children found to be living in and around the brick kilns to stop them from dropping out of school. The Government of Cambodia's submission also reiterated that judges in Cambodia have a clear mandate to prosecute child labor crimes and issue fines, and that they will continue to investigate and prosecute all perpetrators of child labor violations.

IV. Final Determination

The Departments have carefully reviewed and analyzed the comment submitted in considering whether to add bricks from Cambodia to the E.O. List. In addition, the Departments have continued to monitor the production of bricks since the issuance of the Initial Determination and will continue to monitor future brick production in the course of maintaining the E.O. List. The letter submitted from the Government of Cambodia failed to provide sufficient evidence to persuade the Departments to not include bricks on the E.O. List. The Government of Cambodia indicated in its letter that there were zero instances of child labor across 486 brick kilns. However, this information is inconsistent with the findings from an independent survey of the Cambodia brick industry. The independent survey found that child labor was occurring in brick kilns in more than isolated instances. Field research, including interviews with workers at brick kilns, also revealed that child labor occurred at brick kilns. The Departments conclude that based on available information, there is a reasonable basis to believe that bricks in Cambodia have been produced with the use of forced or indentured child labor in more than isolated incidents.

V. Background

E.O. 13126 was signed on June 12, 1999 and published in the Federal Register on June 16, 1999 (64 FR 32383). E.O. 13126 declared that it was “the policy of the United States Government . . . that executive agencies shall take appropriate actions to enforce the laws prohibiting the manufacture or importation of goods, wares, articles, and merchandise mined, produced, or manufactured wholly or in part by forced or indentured child labor.” ⁵ The E.O. defines “forced or indentured child labor” as:

⁵ 66 FR 32383. (June 12, 1999). https://www.federalregister.gov/documents/1999/06/16/99-15491/prohibition-of-acquisition-of-products-produced-by-forced-or-indentured-child-labor.

[A]ll work or service (1) exacted from any person under the age of 18 under the menace of any penalty for its nonperformance and for which the worker does not offer himself voluntarily; or (2) performed by any person under the age of 18 pursuant to a contract the enforcement of which can be accomplished by process or penalties.

Pursuant to E.O. 13126, and following public notice and comment, DOL published in the January 18, 2001 Federal Register the first E.O. List of products, along with their respective countries of origin, that DOL, in consultation and cooperation with the Department of State and the Department of the Treasury (relevant responsibilities now within DHS), had a reasonable basis to believe might have been mined, produced or manufactured by forced or indentured child labor.⁶

⁶ 66 FR 5353. (January 18, 2001). https://www.federalregister.gov/documents/2001/01/18/01-953/bureau-of-international-labor-affairs-notice-of-final-list-of-products-requiring-federal-contractor.

The Department also published the Procedural Guidelines on January 18, 2001, which provide procedures for the maintenance, review, and, as appropriate, revision of the E.O. List.⁷ The Procedural Guidelines provide that the E.O. List may be revised through consideration of submissions by individuals and on the Department's own initiative. When proposing a revision to the E.O. List, DOL must publish a notice of initial determination in the Federal Register, which includes any proposed alteration to the E.O. List. The Departments will consider all public comments prior to the publication of a final determination of a revised E.O. List. The E.O. List was subsequently revised on July 20, 2010; ⁸ on May 31, 2011; ⁹ on April 3, 2012; ¹⁰ July 23, 2013; ¹¹ and on March 25, 2019.¹² The most recent E.O. List, finalized on March 25, 2019, includes 34 products from 25 countries.¹³

⁷ 66 FR 5351, at 5352. (January 18, 2001). https://www.federalregister.gov/documents/2001/01/18/01-952/bureau-of-international-labor-affairs-procedural-guidelines-for-the-maintenance-of-the-list-of.

⁸ 75 FR 42164. (July 20, 2010). https://www.federalregister.gov/documents/2010/07/20/2010-16886/notice-of-final-determination-updating-the-list-of-products-requiring-federal-contractor.

⁹ 76 FR 31364. (May 31, 2011). https://www.federalregister.gov/documents/2011/05/31/2011-13342/notice-of-final-determination-revising-the-list-of-products-requiring-federal-contractor.

¹⁰ 77 FR 20051. (April 3, 2012). https://www.federalregister.gov/documents/2012/04/03/2012-7961/notice-of-final-determination-revising-the-list-of-products-requiring-federal-contractor.

¹¹ 78 FR 44158. (July 23, 2013). https://www.federalregister.gov/documents/2013/07/23/2013-17520/notice-of-final-determination-revising-the-list-of-products-requiring-federal-contractor.

¹² 84 FR 11123. (March 25, 2019). https://www.federalregister.gov/documents/2019/03/25/2019-05360/notice-of-final-determination-to-remove-uzbek-cotton-from-the-list-of-products-requiring-federal#footnote-34-p11126.

¹³ Department of Labor. List of Products Produced by Forced or Indentured Child Labor. https://www.dol.gov/agencies/ilab/reports/child-labor/list-of-products.

Under a final rule by the Federal Acquisition Regulatory Council, which also implements E.O. 13126, federal contractors who supply products that appear on the E.O. List are required to certify, among other things, that they have made a good faith effort to determine whether forced or indentured child labor was used to mine, produce, or manufacture any product furnished under the contract and that, on the basis of those efforts, the contractor is unaware of any such use of child labor. See 48 CFR subpart 22.15.

The current E.O. List and Procedural Guidelines can be accessed at https://www.dol.gov/agencies/ilab/reports/child-labor/list-of-products?page=1 or can be obtained from: OCFT, Bureau of International Labor Affairs, Room S-5313, U.S. Department of Labor, 200 Constitution Avenue NW, Washington, DC 20210; telephone: (202) 693-4843; fax (202) 693-4843.

Signed at Washington, DC, on July 6, 2022.
Thea Lee,
Deputy Undersecretary for International Affairs.

[FR Doc. 2022-14799 Filed 7-12-22; 8:45 am]

BILLING CODE 4510-28-P